DEPARTMENT OF ENERGY

Federal Energy Regulatory Commission

[Docket No. PF14-21-000]

Alaska Gasline Development Corporation; BP Alaska LNG, LLC; Conoco Phillips Alaska LNG Company; ExxonMobil Alaska LNG, LLC; TransCanada Alaska Midstream, LP; Notice of Public Scoping Meetings for the Planned Alaska LNG Project

The staff of the Federal Energy Regulatory Commission (FERC or Commission) will conduct public scoping meetings as part of their preparation of an environmental impact statement (EIS) for the Alaska LNG Project involving construction and operation of facilities by Alaska Gasline Development Corporation; BP Alaska LNG, LLC; Conoco Phillips Alaska LNG Company; ExxonMobil Alaska LNG, LLC; and TransCanada Alaska Midstream, LP (Applicants) in Alaska.

More information about the Commission's EIS and the Alaska LNG Project is available in the Notice of Intent to Prepare an Environmental Impact Statement for the Planned Alaska LNG Project and Request for Comments on Environmental Issues (NOI), issued March 4, 2015. The NOI describes the scoping process that is under way seeking public participation in the environmental review of this project. The public scoping meetings, listed on page 2, provide an opportunity to submit verbal comments in addition to, or in lieu of, written comments on issues of environmental concern related to the Alaska LNG Project. Both written and verbal comments receive equal consideration. Please note that the scoping period will close on December 4, 2015.

Additional information about the project is available from FERC's Office of External Affairs at (866) 208-FERC (3372) or on the FERC Web site (www.ferc.gov) using the eLibrary link. Click on the eLibrary link, click on “General Search,” and enter the docket number, excluding the last three digits in the Docket Number field (i.e., PF14-21). Be sure you have selected an appropriate date range. For assistance, please contact FERC Online Support at FERCOnlineSupport@ferc.gov or toll free at (866) 208-3676, or for TTY, contact (202) 502-8659. The eLibrary link also provides access to the texts of formal documents issued by the Commission, such as orders, notices, and rulemakings.

Schedule and Locations for the Alaska LNG Project Public Scoping Meetings

The meetings will be recorded by a court reporter to ensure comments are accurately depicted on the public record. The Commission invites you to attend one of the following public scoping meetings in the project area.

Date and Time | Location
October 27, 2015, 6:00 p.m | Nikiski Recreation Center—Banquet Hall, Mile 23.4 Kenai Spur Hwy, Nikiski, AK 99611.
October 27, 2015, 6:00 p.m | Kaktovik Community Center, 2051 Barter Avenue, Kaktovik, AK 99747.
October 28, 2015, 6:00 p.m | Houston High School, 12501 W. Hawk Lane, Houston, AK 99694.
October 28, 2015, 6:00 p.m | Barrow Inupiat Heritage Center-Multipurpose Room, 5421 North Star Street, Barrow, AK 99723.
October 29, 2015, 6:00 p.m | Trapper Creek Elementary School, 6742 Petersville Rd, Trapper Creek, AK 99683.
October 29, 2015, 6:00 p.m | Nuiqsut Kisik Community Center, 2230 2nd Avenue, Nuiqsut, AK 99789.

AK LNG representatives will be present one hour before the scoping meeting at all locations except Barrow, Alaska with maps depicting the project and to answer questions. In Barrow, AK LNG representatives will be present one hour after the scoping meeting. The meetings will end once all speakers have provided their comments or at 9 p.m., whichever comes first.

Additional meetings at other locations are being scheduled. A supplemental notice will be issued, announcing the dates and times for these additional meetings.

Dated: October 8, 2015.
Kimberly D. Bose,
Secretary.

[FR Doc. 2015-26187 Filed 10-14-15; 8:45 am]

BILLING CODE 6717-01-P